EXPORT-IMPORT BANK OF THE UNITED STATES

[Public Notice 2011-0080]

Privacy Act of 1974: New System of Records

AGENCY: Export-Import Bank of the United States.

ACTION: Notice of new System of Records for EIB 11-08 Application for Global Credit Express Revolving Line of Credit.

SUMMARY: Ex-Im Bank proposes to add a new application form subject to the Privacy Act of 1974 (5 U.S.C. 522a), as amended. This action is necessary to meet the requirements of the Privacy Act which is to publish in the Federal Register a notice of the existence and character of records maintained by the agency (5 U.S.C. 522s(e)(4)). The attached file contains the System of Records Notice (SORN) for EIB 11-08 Application for Global Credit Express Revolving Line of Credit. The application form will be operational in the next 60 days.

DATES: This action will be effective without further notice on April 10, 2012 unless comments are received that would result in a contrary determination.

ADDRESSES: Comments may be submitted electronically on www.regulations.gov or by mail to Jim Newton, Export-Import Bank of the United States, 811 Vermont Ave. NW., Washington, DC 20571

SUPPLEMENTARY INFORMATION: The Application for Global Credit Express Revolving Line of Credit will be used to determine the eligibility of the applicant and the transaction for Ex-Im Bank assistance under its Working Capital Guarantee and Direct Loan Program. Ex-Im Bank customers will be able to submit this form on paper only.

To underwrite this application, the Ex-Im Bank requires a Fair Issac Corporation (FICO) score. Some of the customers applying for this financing program are very small businesses and FICO uses the Social Security Number of the Borrower to acquire the consumer score.

Sharon A. Whitt,
Agency Clearance Officer.

System of Records Notice—EIB 11-08 Application for Global Credit Express Revolving Line of Credit

System Identifier:

EXIM/FORM-1.

System Name:

EIB 11-08 Application for Global Credit Express Revolving Line of Credit Federal Register Notice Date of Publication.

Security Classification:

EIB 11-08 is an application that will be used to determine the eligibility to participate in Export-Import Bank's Working Capital Guarantee and Direct Loan Program. The application will be received in paper format only and is unclassified.

System Location:

All paper applications will be stored at Export-Import Bank of the United States, 811 Vermont Avenue NW., Washington, DC 20571.

Categories of Individuals covered by this system:

The Global Credit Express Revolving Line of Credit application will be used by U.S. small businesses.

Categories of records in the system:

The information contained on this application contains data required for Export-Import Bank to determine the eligibility of the application and the transaction for assistance under the Working Capital Guarantee and Direct Loan Program. This includes Company Name, address, telephone number, Web site, Tax ID Number, Dun & Bradstreet Number, Contact Person, Contact Person Title, phone number, email address, number of full-time employees, Gross Sales Last Fiscal Year, North American Industrial Classification System (NAICS) codes, declaration of minority ownership, Borrower's name, Title, Social Security Number, Address, Company, Dun & Bradstreet Number, Tax ID Number, Number of years exporting, number of foreign accounts, Payment terms provided to foreign buyers, Total Export credit sales for last 3 years, Export Credit Accounts Receivable Outstanding, Total Export Credit loses for last 3 years, Five Largest Export Sales Markets, Description of principal line of business and products, description of how this loan will benefit your export related business, Calculation maximum loan amount and U.S. content of exports goods or services.

Authority for maintenance of the system:

The Export-Import Bank requests the information in this application under the authority of the Export-Import Bank Act of 1945, as amended (12 U.S.C. 635 et seq.).

Purpose:

EIB 11-08 Application for Global Credit Express Revolving Line of Credit is used by an exporter in order to obtain approval for an Export-Import Bank direct loan or a guaranteed working capital line of credit to finance export sales. The information received provides Export-Import Bank staff with the information necessary to make a determination of the eligibility of the applicant and its creditworthiness for Export-Import Bank assistance under this direct loan and guarantee program.

Routine Uses of Records Maintained in the System; Including Categories of Users and the Purposes of Such Uses:

The records maintained in the system will be used:

a. To disclose information for audits and oversight purposes performed by Export-Import Bank employees;

b. To provide information to a Congressional Office from the record of an individual in response to an inquiry from that Office;

c. For investigations;

d. By Export-Import Bank employees to collect information from third parties including credit reporting agencies and to collect credit scores;

e. For Monthly, Quarterly, Semi-annual, and Annual reporting;

f. To disclose information to Export-Import Bank contractors in support of Export-Import Bank authorized activities;

g. For litigation;

h. By National Archives and Records Administration for record management inspections in its role as Archivist;

i. To disclose pertinent information to the appropriate Federal, State, or local agency responsible for investigating, prosecuting, enforcing, or implementing a statute, rule, regulation or other ___, when the disclosing agency becomes aware of an indication of a violation or potential violation of civil or criminal law or regulations.

Disclosure to consumer reporting agencies:

Export-Import Bank may report their credit experience with applicable credit bureaus such as: Dun & Bradstreet, FICO, and TransUnion.

Storage:

The paper application will be sorted in a locked filing cabinet or room.

Retrievability:

Information is retrieved by transaction number, individual's name, SSN, and company name, Fair Issac Corporation (FICO) Reference Number, Small Business Scoring Service Reference (SBSS) number, Fair Issac Corporation (FICO) Score, Small Business Scoring Service (SBSS) Score, or Export-Import Bank's Exporter Score.

Safeguards:

This information is collected in paper format only and will be stored in a locked filing cabinet or room. Individual Export-Import Bank Staff access to this information will be controlled and monitored by the Export-Import Bank's Small Business Finance Division.

Retention and disposal:

Records contained in the paper application are covered under the Export-Import Bank's record schedule, N1-275-02-01-1a approved by National Archives and Records Administration September 27, 2002.

System Manager and Address:

James Newton, Export-Import Bank of the United States, 811 Vermont Ave. NW., Washington, DC 20571.

Notification Procedure:

Individuals wishing to determine whether this system of records contains information about them may do so by writing to: James Newton, Export-Import Bank of the United States, 811 Vermont Ave. NW., Washington, DC 20571.

And provide the following information:

1. Name.

2. Social Security Number.

3. Type of information requested.

4. Address to which the information should be sent.

5. Signature.

Record access procedure:

Individuals wishing to make an amendment of records about them should write to: James Newton, Export-Import Bank of the United States, 811 Vermont Ave. NW., Washington, DC 20571.

And provide the following information:

1. Name.

2. Social Security Number.

3. Type of information requested.

4. Signature.

Contesting record procedures:

Individuals wishing to contest records about them should write to: James Newton, Export-Import Bank of the United States, 811 Vermont Ave. NW., Washington, DC 20571.

And provide the following information:

1. Name.

2. Social Security Number.

3. Signature.

4. Precise identification of the information to be amended.

Record Source Categories:

The record information contained on this application was received from the individual/company requesting financial assistance.

Exemptions claimed for the system:

None.

[FR Doc. 2012-3120 Filed 2-9-12; 8:45 am]

BILLING CODE 6690-01-P